DEPARTMENT OF COMMERCE

[I.D. 080700A]

Submission for OMB Review; Proposed Information Collection; Comment Request

The Department of Commerce has submitted to the Office of Management and Budget (OMB) for the following proposal for collection of information under the provisions of the Paperwork Reduction Act (44 U.S.C. Chapter 35).

Agency: National Oceanic and Atmospheric Administration (NOAA).

Title: Southwest Region Permit Family of Forms.

Form Number(s): None.

OMB Approval Number: 0648-0204.

Type of Request: Regular submission.

Burden Hours: 245.

Number of Respondents: 364.

Average Hours Per Response: 30 minutes for a permit application for the Pacific pelagic, crustacean, precious coral, and coastal pelagic fisheries; 1 hour for a permit application for the bottomfish and seamount groundfish fisheries; 2 hours for an exempted fishery application; 2 hours for an appeal of Pacific pelagic permit action or a bottomfish and seamount groundfish permit action; and 1 hour for additional permit application information in the coastal pelagics fishery.

Needs and Uses: Permits are required for persons to participate in Federally-managed fisheries in the western Pacific region and off the West Coast. The permit application forms provide basic information about permit holders and the vessels and gear being used. This information is important for understanding the nature of the fisheries and provides a link to participants. It also aids in the enforcement of regulations.

Affected Public: Business and other for-profit organizations, and individuals.

Frequency: On occasion, annual, biennial.

Respondent's Obligation: Required to obtain or retain a benefit.

OMB Desk Officer: David Rostker, (202) 395-3897.

Copies of the above information collection proposal can be obtained by calling or writing Linda Engelmeier, DOC Forms Clearance Officer, (202) 482-3272, Department of Commerce, Room 6086, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: August 3, 2000.
Madeleine Clayton,
Management Analyst, Office of the Chief Information Officer.

[FR Doc. 00-20323 Filed 8-9-00; 8:45 am]

BILLING CODE 3510-22-F